DEPARTMENT OF HEALTH AND HUMAN SERVICES

National Institutes of Health

Center for Scientific Review; Amended Notice of Meeting

Notice is hereby given of a change in the meeting of the Gastrointestinal Mucosal Pathobiology Study Section, October 17, 2013, 08:00 a.m. to October 17, 2013, 06:00 p.m., Embassy Suites at the Chevy Chase Pavilion, Embassy Suites at the Chevy Chase Pavilion, 4300 Military Rd. NW., Washington, DC 20015 which was published in the Federal Register on September 20, 2013, 78 FR 183, Pgs. 57866-57867.

The meeting will be held at Hyatt Regency Bethesda, 7400 Wisconsin Ave., Bethesda, MD 20814. The meeting will start on December 5, 2013 at 8:00 a.m. and end on December 5, 2013 at 6:00 p.m. The meeting is closed to the public.

Dated: October 25, 2013.
Anna Snouffer,
Deputy Director, Office of Federal Advisory Committee Policy.

[FR Doc. 2013-25896 Filed 10-30-13; 8:45 am]

BILLING CODE 4140-01-P